DEPARTMENT OF VETERANS AFFAIRS

38 CFR Part 17

RIN 2900-AK29

Waivers

AGENCY: Department of Veterans Affairs.

ACTION: Proposed rule.

SUMMARY: This document proposes to amend VA's medical regulations to give Fiscal Officers at VA medical facilities the authority to waive veterans' debts arising from the medical care copayments. These proposed changes codify an existing 1995 delegation of authority to Fiscal Officers from the Secretary of Veterans Affairs; the purpose of this 1995 delegation was to increase the efficiency of the waiver processing.

DATES: Comments must be received on or before June 21, 2004..

ADDRESSES: Written comments may be submitted by: mail or hand-delivery to Director, Regulations Management (00REG1), Department of Veterans Affairs, 810 Vermont Ave., NW., Room 1068, Washington, DC 20420; fax to (202) 273-9026; e-mail to VAregulations@mail.va.gov; or, through http://www.Regulations.gov. Comments should indicate that they are submitted in response to “RIN 2900-AK29.” All comments received will be available for public inspection in the Office of Regulation Policy and Management, Room 1063B, between the hours of 8 a.m. and 4:30 p.m., Monday through Friday (except holidays). Please call (202) 273-9515 for an appointment.

FOR FURTHER INFORMATION CONTACT: Tony Guagliardo, Deputy Director Policy Development, Chief Business Office (16), Veterans Health Administration, 810 Vermont Avenue, NW., Washington, DC 20420, (202) 254-0320. (This is not a toll-free telephone number.)

SUPPLEMENTARY INFORMATION: By law, many veterans who receive medical care at VA facilities must agree to pay copayments for their care. There are different copayments for inpatient hospital care, outpatient medical services, medications, and extended care services. In the past, veterans with debts arising from failure to pay these copayments could request VA Committees on Waivers and Compromises to waive the debts. The Veterans Benefits Administration (VBA) operates these Committees. Due to the volume of waiver requests, VBA and the Veterans Health Administration (VHA) agreed that the authority to waive these debts should be delegated to Fiscal Officers at VA medical facilities. As a result, in 1995, the Secretary of Veterans Affairs delegated the authority to waive these debts to VHA Fiscal Officers. This proposed regulatory change would codify this delegation in VA regulations. It would also specify the form that veterans must complete and submit to VA to request this type of waiver. Finally, it would also correct inadvertent citation errors overlooked in an earlier recodification of part 17 and make other changes for clarification.

Requests for and decisions regarding waivers under this proposal will be subject to the applicable regulations governing the Committees on Waivers and Compromises. This means that Fiscal Officers will waive a debt if they determine that collection of the debt would be against equity and good conscience.

Regulatory Flexibility Act

The Secretary hereby certifies that this proposed rule would not have a significant economic impact on a substantial number of small entities as they are defined in the Regulatory Flexibility Act, 5 U.S.C. 601-612. The provisions of the proposed rule would not impose a significant economic impact on any entities since VA billing would not constitute a significant portion of any insurance company's business. Accordingly, pursuant to 5 U.S.C. 605(b), this proposed rule is exempt from the initial and final regulatory flexibility analyses requirements of sections 603 and 604.

Executive Order 12866

This document has been reviewed by the Office of Management and Budget pursuant to Executive Order 12866.

Catalog of Federal Domestic Assistance Numbers

The Catalog of Federal Domestic Assistance numbers for the programs affected by this document are 64.005, 64.007, 64.008, 64.009, 64.010, 64.011, 64.012, 64.013, 64.014, 64.015, 64.016, 64.018, 64.019, 64.022, 64.024, and 64.025.

Paperwork Reduction Act

Although this document contains provisions constituting a collection of information in 38 CFR 17.105 (c) referencing VA Form 5655, under the provision of the Paperwork Reduction Act (44 U.S.C. 3501-3521), no new or proposed revised collections of information are associated with this proposed rule. The Office of Management and Budget has approved this information collection in VA Form 5655 under control number 2900-0165.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This rule will have no such effect on State, local, or tribal governments, or the private sector.

List of Subjects in 38 CFR Part 17

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

Approved: February 20, 2004.
Anthony J. Principi,
Secretary of Veterans Affairs.

For the reasons set out in the preamble, 38 CFR part 17 is proposed to be amended as set forth below:

PART 17—MEDICAL

1. The authority citation for part 17 continues to read as follows:

Authority: 38 U.S.C. 501, 1721, unless otherwise noted.

2. Section 17.105 is amended by:

A. In paragraph (a), removing “§ 17.101(a)” and adding, in its place, “§ 17.102”.

B. Redesignating paragraph (c) as (d).

C. Adding a new paragraph (c).

D. Adding the OMB information collection approval number parenthetical at the end of the section.

The additions read as follows:

17.105 Waivers

* * * * *

(c) Of charges for copayments. If the debt represents charges for outpatient medical care, inpatient hospital care, medication or extended care services copayments made under §§ 17.108, 17.110 or 17.111 of this section, the claimant must request a waiver by submitting VA Form 5655 (Financial Status Report) to a Fiscal Officer at a VA medical facility where all or part of the debt was incurred. The claimant must submit this form within the time period provided in § 1.963(b) of this chapter and may request a hearing under § 1.966(a) of this chapter. The Fiscal Officer may extend the time period for submitting a claim if the Chairperson of the Committee on Waivers and Compromises could do so under § 1.963(b) of this chapter. The Fiscal Officer will apply the standard “equity and good conscience” in accordance with §§ 1.965 and 1.966(a) of this chapter, and may waive all or part of the claimant's debts. A decision by the Fiscal Officer under this provision is final (except that the decision may be reversed or modified based on new and material evidence, fraud, a change in law or interpretation of law, or clear and unmistakable error shown by the evidence in the file at the time of the prior decision as provided in § 1.969 of this chapter) and may be appealed in accordance with 38 CFR parts 19 and 20.

* * * * *

(Authority: 38 U.S.C. 501, 1721, 1722A, 1724)

(The Office of Management and Budget has approved the information collection requirements in this section under control number 2900-0165.)

[FR Doc. 04-8881 Filed 4-19-04; 8:45 am]

BILLING CODE 8320-01-P